DEPARTMENT OF TRANSPORTATION

Federal Aviation Administration

Office of Commercial Space Transportation: Black Sky Training Safety Approval Performance Criteria

AGENCY: Federal Aviation Administration (FAA), DOT.

ACTION: Notice.

SUMMARY: This is notification of criteria used to evaluate the Black Sky Training, Inc. (BST) safety approval application. The FAA issued BST a safety approval, subject to the provisions of Title 51 U.S.C Subtitle V, ch. 509, and the orders, rules and regulations issued under it. Pursuant to Title 14 Code of Federal Regulations (14 CFR) § 414.35, this Notice publishes the criteria that were used to evaluate the safety approval application.

FOR FURTHER INFORMATION CONTACT: For questions about the performance criteria, you may contact Randal Maday, Licensing and Evaluation Division (AST-200), FAA Office of Commercial Space Transportation (AST), 800 Independence Avenue SW., Room 331, Washington, DC 20591, telephone (202) 267-8652; Email randal.maday@faa.gov.

SUPPLEMENTARY INFORMATION: Background: BST applied for, and received, a safety approval for its ability to provide a service that includes Spaceflight 101, Crew Resource Management, High Altitude Physiology, Disorientation and G Force Management, Vehicle Energy Management, and Rocket Powered Transition training for crew and space flight participants. BST may offer its space flight training service to a prospective launch and reentry operator to meet the applicable crew and space flight participant training requirements of 14 CFR 460.5 and 14 CFR 460.51.

Criteria Used to Evaluate Safety Approval Application:The performance criteria for this safety approval include: AC60-22 Aeronautical Decision Making, AC120-51E Crew Resource Management Training, NASA Space Flight Resource Management (SFRM) training methods, FAA-H8083-25A Pilot Handbook of Aeronautical Knowledge, AC61-107A AC 61-107A—Operations of Aircraft at Altitudes Above 25,000 feet MSL and/or Mach Numbers Greater than .75, FAA AM-400-03/1 Spatial Disorientation, AC91-61 A Hazard in Aerobatics: Effects of G-Forces of Pilots, FAA-H8083-3b Airplane Flying Handbook, FAA-H8083-13 Glider Flying Handbook, FAA-H8083-25A Pilot Handbook of Aeronautical Knowledge, and FAA-S-8081-SF Airline Transport Pilot and Aircraft Type Rating Practical Test Standards for Airplane. The performance criteria also include 14 CFR 61.31(g) for additional training required for operating pressurized aircraft capable of operating at high altitudes. These criteria include FAA regulations, advisory circulars, and current industry practices which are acceptable technical criteria for reviewing a safety approval application per 14 CFR 414.19. Many aspects of aviation training also apply to aerospace operations because it addresses human-vehicle interactions common to both aviation and aerospace.

The FAA's evaluation included assessment of BST's space flight training service lesson plans and objectives, which include classroom, simulator, and flight training for crew and space flight participants to experience and demonstrate knowledge of the following through testing:

• Understand the fundamentals of space flight, which include terminology, rocket operations, and space flight hazards.

• Understand and apply the concepts of space flight resource management.

• Understand and experience the symptoms associated with high altitude physiology.

• Demonstrate techniques used to mitigate the physical effects of G forces and vertigo due to unusual attitudes.

• Demonstrate vehicle energy management principles.

• Demonstrate proficiency in the operation of a rocket-propelled simulator from liftoff to landing.

Issued in Washington, DC, on 24 February 2014.
George C. Nield,
Associate Administrator for Commercial Space Transportation.

[FR Doc. 2014-08117 Filed 4-9-14; 8:45 am]

BILLING CODE 4910-13-P